OFFICE OF THE UNITED STATES TRADE REPRESENTATIVE

African Growth and Opportunity Act Implementation Subcommittee of the Trade Policy Staff Committee; Public Comments on Annual Review of Country Eligibility for Benefits Under the African Growth and Opportunity Act, Title I of the Trade and Development Act of 2000

ACTION: Notice and request for comments.

SUMMARY: The African Growth and Opportunity Act Implementation Subcommittee of the Trade Policy Staff Committee (the “Subcommittee”) is requesting written public comments for the annual review of the eligibility of sub-Saharan African countries to receive the benefits of the African Growth and Opportunity Act (AGOA). This notice identifies the eligibility criteria that must be considered under the AGOA, lists the sub-Saharan African countries that are currently eligible for AGOA, and the sub-Saharan African countries that are currently ineligible for the AGOA. The Subcommittee will consider any such comments in developing recommendations on country eligibility for the President. Comments received related to the child labor criteria may also be considered by the Secretary of Labor in making the findings required under section 504 of the Trade Act of 1974, as amended.

DATES: The deadline for comments is October 10, 2001.

FOR FURTHER INFORMATION CONTACT: Office of African Affairs, Office of the United States Trade Representative, 600 17th Street, NW., Room 501, Washington, DC 20508. Telephone (202) 395-9514.

SUPPLEMENTARY INFORMATION: The AGOA amends Title V of the Trade Act of 1974 (19 U.S.C. 2461 et seq.) (the “Trade Act”) to authorize the President to designate sub-Saharan African countries as eligible for duty-free tariff treatment for certain products under the Generalized System of Preferences program. The AGOA also provides preferential treatment for certain textile and apparel articles of beneficiary sub-Saharan African countries that meet certain statutory requirements intended to prevent unlawful transshipment of such articles.

The President may designate a country as a beneficiary sub-Saharan African country if he determines that the country meets the eligibility criteria set forth in: (1) Section 104 of the AGOA; and (2) section 502 of the Trade Act. To date, 35 countries have been designated as beneficiary sub-Saharan African countries. These countries, as well as the 14 currently ineligible countries, are listed below. Section 506A of the Trade Act provides that the President shall monitor, review, and report to Congress annually on the progress of each sub-Saharan African country in meeting the foregoing eligibility criteria in order to determine the current or potential eligibility of each country to be designated as a beneficiary sub-Saharan African country. The President's determinations are to be included in an annual report submitted to Congress.

The Subcommittee is seeking public comments in connection with the annual review of the eligibility of sub-Saharan African countries for the AGOA's benefits. The Subcommittee will consider any such comments in developing recommendations on country eligibility for the President. Comments related to the child labor criteria may also be considered by the Secretary of Labor in making the findings required under section 504 of the Trade Act.

Beneficiary Sub-Saharan African Countries

The following have been designated as beneficiary sub-Saharan African countries:

Republic of Benin

Republic of Botswana

Republic of Cameroon

Republic of Cape Verde

Central African Republic

Republic of Chad

Republic of the Congo

Republic of Djibouti

State of Eritrea

Ethiopia

Gabonese Republic

Republic of Ghana

Republic of Guinea .

Republic of Guinea-Bissau

Republic of Kenya

Kingdom of Lesotho

Republic of Madagascar

Republic of Malawi

Republic of Mali

Islamic Republic of Mauritania

Republic of Mauritius

Republic of Mozambique

Republic of Namibia

Republic of Niger

Federal Republic of Nigeria

Republic of Rwanda

Democratic Republic of São Tomè and Principe

Republic of Senegal

Republic of Seychelles

Republic of Sierra Leone

Republic of South Africa

Kingdom of Swaziland

United Republic of Tanzania

Republic of Uganda

Republic of Zambia

Non-Beneficiary Sub-Saharan African Countries

The following have not been designated as beneficiary sub-Saharan African countries:

Republic of Angola

Burkina Faso

Republic of Burundi

Democratic Republic of Congo

Federal Islamic Republic of the Comoros

Republic of Côte d'Ivoire

Republic of Equatorial Guinea

Republic of The Gambia

Republic of Liberia

Somalia

Republic of Togo

Republic of Sudan

Republic Zimbabwe

Submission of Written Comments

Interested parties are invited to submit comments regarding the continued eligibility of countries and the potential designation as beneficiaries of countries currently not eligible for AGOA benefits. All submissions must include an original and twenty (20) copies, in English. All submissions should clearly identify on the cover page of the submission the country or countries discussed within the submission and include the name of the person and/or organization submitting the written comments. Comments must be submitted by October 10, 2001, to Gloria Blue, Executive Secretary, Trade Policy Staff Committee, Office of the United States Trade Representative, 1724 F Street NW., Washington, DC 20508.

Public versions of all documents relating to this review will be available for inspection by appointment in the USTR public reading room (for appointments call (202) 395-6186). Submissions that are granted “business confidential” status and other information submitted in confidence will not be available for public inspection. Submissions that include Business Confidential information are subject to the requirements of 15 CFR 2003.6. A justification as to why the information contained in the submission should be treated confidentially must be included in the submission. If a document contains such business confidential information, an original and twenty (20) copies of the business confidential versions of the document along with an original and twenty (20) copies of a public version must be submitted. The document that contains business confidential information should be clearly marked “business confidential” at the top of each page. The public version should also be clearly marked at the top of each page (either “public version” of “non-confidential”).

Carmen Suro-Bredie,
Chair, Trade Policy Staff Committee.

[FR Doc. 01-23909 Filed 9-24-01; 8:45 am]

BILLING CODE 3190-01-M